ENVIRONMENTAL PROTECTION AGENCY

[EPA-HQ-OECA-2007-0468; FRL-9905-38-OEI]

Information Collection Request Submitted to OMB for Review and Approval; Comment Request; Environmental Impact Assessment of Nongovernmental Activities in Antarctica (Renewal)

AGENCY: Environmental Protection Agency (EPA).

ACTION: Notice.

SUMMARY: The Environmental Protection Agency has submitted an information collection request (ICR), “Environmental Impact Assessment of Nongovernmental Activities in Antarctica (Renewal)” (EPA ICR No. 1808.07, OMB Control No. 2020-0007) to the Office of Management and Budget (OMB) for review and approval in accordance with the Paperwork Reduction Act (44 U.S.C. 3501 et seq.). This is a proposed extension of the ICR, which is currently approved through March 31, 2014. Public comments were previously requested via the Federal Register (78 FR 57847) on September 20, 2013 during a 60-day comment period. This notice allows for an additional 30 days for public comments. A fuller description of the ICR is given below, including its estimated burden and cost to the public. An Agency may not conduct or sponsor and a person is not required to respond to a collection of information unless it displays a currently valid OMB control number.

DATES: Comments must be submitted on or before February 28, 2014.

ADDRESSES: Submit your comments, referencing Docket ID No. EPA-HQ-OECA-2007-0468, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Julie Roemele, Office of Federal Activities, Mail Code 2252A, Environmental Protection Agency, 1200 Pennsylvania Ave. NW., Washington, DC 20460; telephone number: (202) 564-5632; fax number: (202) 564-0072; email address: roemele.julie@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

EPA ICR #: 1808.07.

OMB Control #: 2020-0007.

Abstract: The Environmental Protection Agency's (EPA's) regulations at 40 CFR part 8, Environmental Impact Assessment of Nongovernmental Activities in Antarctica (Rule), were promulgated pursuant to the Antarctic Science, Tourism, and Conservation Act of 1996 (Act), 16 U.S.C. 2401 et seq., as amended, 16 U.S.C. 2403a, which implements the Protocol on Environmental Protection (Protocol) to the Antarctic Treaty of 1959 (Treaty). The Rule provides for assessment of the environmental impacts of nongovernmental activities in Antarctica, including tourism, for which the United States is required to give advance notice under Paragraph 5 of Article VII of the Treaty, and for coordination of the review of information regarding environmental impact assessments received from other Parties under the Protocol. Persons subject to the Rule must prepare environmental documentation to support the operator's determination regarding the level of environmental impact of the proposed expedition. The Protocol and the Rule also require an operator to employ procedures to assess and provide a regular and verifiable record of the actual impacts of an activity which proceeds on the basis of an Initial Environmental Evaluation (IEE) or Comprehensive Environmental Evaluation (CEE).

Form Numbers: None.

Respondents/affected entities: Private operators.

Respondent's obligation to respond: Mandatory (40 CFR part 8).

Estimated number of respondents: 18.

Frequency of response: Annual.

Total estimated burden: 1,254 hours.

Total estimated cost: $100,575 (per year) includes $3,390 annualized capital or operation & maintenance costs.

Changes in Estimates: There is a decrease of 454 hours in the total estimated respondent burden compared with the ICR currently approved by OMB. This decrease is the result of a change to the level of environmental documentation EPA anticipates the operators will submit as well as an anticipated decrease of operators submitting documentation.

John Moses,
Director, Collection Strategies Division.

[FR Doc. 2014-01667 Filed 1-28-14; 8:45 am]

BILLING CODE 6560-50-P